DEPARTMENT OF THE INTERIOR

Fish and Wildlife Service

50 CFR Part 17

[Docket No. FWS-R2-ES-2015-0028; FXES11130900000C2-167-FF09E32000]

RIN 1018-AX99

Endangered and Threatened Wildlife and Plants; Removal of the Hualapai Mexican Vole From the Federal List of Endangered and Threatened Wildlife

AGENCY: Fish and Wildlife Service, Interior.

ACTION: Proposed rule; reopening of comment period.

SUMMARY: We, the U.S. Fish and Wildlife Service (Service), announce the reopening of the comment period on our proposed rule to remove the Hualapai Mexican vole from the Federal List of Endangered and Threatened Wildlife. We are reopening the comment period for 30 days in order to publish a summary of the proposed regulation in a newspaper of general circulation and to allow for all interested parties further opportunity to comment on the proposed rule. Comments previously submitted need not be resubmitted, as they will be fully considered in preparation of the final listing determination.

DATES: The comment period for the proposed rule that published June 4, 2015 (80 FR 31875), is reopened. To allow us adequate time to consider your comments on the proposed rule, we must receive your comments on or before January 23, 2017.

ADDRESSES: Written comments: You may submit comments on the proposed rule and draft post-delisting monitoring plan by one of the following methods:

• Federal eRulemaking Portal: Go to the Federal eRulemaking Portal: http://www.regulations.gov. In the Search box, enter the docket number for the proposed rule, which is FWS-R2-ES-2015-0028. Then click on the Search button. On the resulting page, you may submit a comment by clicking on “Comment Now!” Please ensure that you have found the correct rulemaking before submitting your comment.

• By U.S. mail or hand-delivery: Public Comments Processing, Attn: Docket No. FWS-R2-ES-2015-0028, U.S. Fish and Wildlife Service, MS: BPHC, 5275 Leesburg Pike, Falls Church, VA 22041-3803.

We request that you send comments only by the methods described above. We will post all comments on http://www.regulations.gov. This generally means that we will post any personal information you provide us (see SUPPLEMENTARY INFORMATION for more information).

Document availability: Comments and materials we receive, as well as supporting documentation we used in preparing the proposed rule, will be available for public inspection on http://www.regulations.gov under Docket No. FWS-R2-ES-2015-0028.

FOR FURTHER INFORMATION CONTACT: Steven Spangle, Field Supervisor, U.S. Fish and Wildlife Service, Arizona Ecological Services Field Office, 9828 North 31st Avenue, #C3, Phoenix, Arizona 85051-2517; telephone (602) 242-0210. Individuals who are hearing-impaired or speech-impaired may call the Federal Relay Service at (800) 877-8339 for TTY assistance 24 hours a day, 7 days a week.

SUPPLEMENTARY INFORMATION: On June 4, 2015, we published a proposed rule (80 FR 31875) to remove the Hualapai Mexican vole from the List of Endangered and Threatened Wildlife in title 50 of the Code of Federal Regulations (50 CFR 17.11(h)). We are proposing this action because the available information indicates the original scientific classification is no longer the appropriate determination for the subspecies, meaning that current data indicate that the original classification may be erroneous. We sought information, data, and comments from the public regarding the proposal for 60 days, ending August 3, 2015.

We are reopening the comment period on that proposed rule for an additional 30 days (see DATES) while we simultaneously issue a notice in local newspapers. We will accept written comments and information during this reopened comment period. In particular, we seek comments concerning the following:

(1) New information concerning the taxonomic classification and conservation status of Hualapai Mexican voles and Mexican voles in general;

(2) New information on the historical and current status, range, distribution, and population size of Hualapai Mexican voles, including the locations of any additional populations; and

(3) New information regarding the life history, ecology, and habitat use of Hualapai Mexican voles.

Please refer to the proposed rule for more information on our proposed action and the specific information we seek.

You may submit your comments and materials concerning the proposed rule by one of the methods listed in ADDRESSES. Before including your address, phone number, email address, or other personal identifying information in your comment, you should be aware that your entire comment—including your personal identifying information—may be made publicly available at any time. All comments and recommendations, including names and addresses, will become part of the administrative record.

If you submit information via http://www.regulations.gov, your entire comment—including any personal identifying information—will be posted on the Web site. If you mail or hand-deliver a hardcopy comment that includes personal identifying information, you may request at the top of your document that we withhold this information from public review, but we cannot guarantee that we will be able to do so. To ensure that the electronic docket for this rulemaking is complete and all comments we receive are publicly available, we will post all hardcopy submissions on http://www.regulations.gov.

Authority: The authority for this action is the Endangered Species Act of 1973, as amended (16 U.S.C. 1531 et seq.).

Dated: December 12, 2016.
Marty J. Kodis,
Acting Director, U.S. Fish and Wildlife Service.

[FR Doc. 2016-30816 Filed 12-21-16; 8:45 am]

BILLING CODE 4333-15-P